DEPARTMENT OF HEALTH AND HUMAN SERVICES

Food and Drug Administration

21 CFR Part 112

[Docket No. FDA-2014-N-2244]

RIN 0910-AG35

Draft Environmental Impact Statement for the Proposed Rule, Standards for Growing, Harvesting, Packing, and Holding of Produce for Human Consumption; Notice for Public Meeting on Draft Environmental Impact Statement

Correction

FR proposed rule document 2015-00205 beginning on pages 1478 in the issue of Monday, January 12, 2015, was never placed on public inspection and was published in error. It should be removed.

[FR Doc. C1-2015-00205 Filed 1-12-15; 4:15 pm]

BILLING CODE 1505-01-D